DEPARTMENT OF THE TREASURY

Office of Foreign Assets Control

Sanctions Actions Pursuant to Executive Order 13413

AGENCY: Office of Foreign Assets Control, Treasury.

ACTION: Notice.

SUMMARY: The Treasury Department's Office of Foreign Assets Control (OFAC) is publishing the names of two individuals whose property and interests in property are blocked pursuant to Executive Order (E.O.) 13413, and whose names have been added to OFAC's list of Specially Designated Nationals and Blocked Persons (SDN List).

DATES: OFAC's actions described in this notice were effective September 28, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac).

Notice of OFAC Actions

On September 28, 2016 OFAC blocked the property and interests in property of the following two individuals pursuant to E.O. 13413, “Blocking Property of Certain Persons Contributing to the Conflict in the Democratic Republic of the Congo”:

1. KUMBA, Gabriel Amisi (a.k.a. AMISI, Nkumba; a.k.a. “Tango Fort”; a.k.a. “Tango Four”); DOB 28 May 1964; nationality Congo, Democratic Republic of the; Gender Male; Major General; Commander of the First Defense Zone; Former Armed Forces of the Democratic Republic of the Congo land forces commander (individual) [DRCONGO].

2. NUMBI, John; DOB 1957; POB Kolwezi, Katanga Province, Democratic Republic of the Congo; Gender Male; General; Former National Inspector, Congolese National Police (individual) [DRCONGO].

Dated: September 28, 2016.
Andrea M. Gacki,
Acting Director, Office of Foreign Assets Control.

[FR Doc. 2016-23831 Filed 9-30-16; 8:45 am]

BILLING CODE 4810-AL-P